DEPARTMENT OF THE INTERIOR

National Park Service

[NPS-WASO-NAGPRA-NPS0028407; PPWOCRADN0-PCU00RP14.R50000]

Notice of Inventory Completion: Tennessee Valley Authority, Knoxville, TN

AGENCY: National Park Service, Interior.

ACTION: Notice.

SUMMARY: The Tennessee Valley Authority (TVA) has completed an inventory of associated funerary objects in consultation with the appropriate Federally-recognized Indian Tribe, and has determined that there is no cultural affiliation between the associated funerary objects and any present-day Federally-recognized Indian Tribe. Representatives of any Federally-recognized Indian Tribe not identified in this notice that wish to request transfer of control of these associated funerary objects should submit a written request to the TVA. If no additional requestors come forward, transfer of control of the human remains and associated funerary objects to the Federally-recognized Indian Tribe stated in this notice may proceed.

DATES: Representatives of any Federally recognized Indian Tribe not identified in this notice that wish to request transfer of control of these associated funerary objects should submit a written request with information in support of the request to the TVA at the address in this notice by September 4, 2019.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of the Tennessee Valley Authority, Knoxville, TN. The associated funerary objects were removed from the following archeological sites in Madison and Lawrence County, AL: 1MA48 and 1LA13.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the associated funerary objects was made by TVA professional staff in consultation with representatives of the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation; The Muscogee (Creek) Nation; Thlopthlocco Tribal Town; and the United Keetoowah Band of Cherokee Indians in Oklahoma (hereafter referred to as “The Consulted Tribes”).

History and Description of the Remains

The sites listed in this notice were excavated as part of TVA's Wheeler reservoir project by the Alabama Museum of Natural History (AMNH) at the University of Alabama, using labor and funds provided by the Works Progress Administration. Details regarding this site may be found in The Flint River Site, MA48, by William S. Webb and David L. DeJarnette and An Archaeological Survey of Wheeler Basin on the Tennessee River in Northern Alabama, by William S. Webb. The associated funerary objects listed in this notice have been in the physical custody of the AMNH at the University of Alabama since excavation but are under the control of TVA. The human remains and other associated funerary objects were previously listed in a Notice of Inventory Completion (81 FR 60380-60381, September 1, 2016) and transferred to The Chickasaw Nation. Additional funerary objects were found during a recent improvement in the curation of the TVA archeological collections at AMNH.

From June to December 1938, excavations took place at the Flint River site, 1MA48, in Madison County, AL. Excavation commenced after TVA had acquired the two parcels of land encompassing site 1MA48 on November 11, 1935 and July 3, 1936. Excavations revealed multiple occupations, including the Late Archaic (4000-1000 B.C.) period, Colbert (300 B.C.-A.D. 100), Flint River (A.D. 500-1000), and the early Mississippian Langston phase (A.D. 900-1200). The one associated funerary object is a sandstone bowl.

From May to June 1934, excavations took place at site 1LA13 in Lawrence County, AL. Excavation commenced after TVA purchased this land February 14, 1934. Site 1LA13 was one of the first sites excavated on TVA land in north Alabama. Information about the excavations is not abundant. Excavations revealed this site to be a burial mound. All the burials were considered inclusive to the mound, not intruded into it at a later date. An examination of the funerary objects excavated at this site indicates that this mound was created during the Hobbs Island phase of the Mississippian period (A.D. 1200-1500). The one associated funerary object is a Mississippian Plain bowl.

Determinations Made by the Tennessee Valley Authority

Officials of the Tennessee Valley Authority have determined that:

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the associated funerary objects and any present-day Indian Tribe.

• According to final judgements of the Indian Claims Commission or the Court of Federal Claims, the land from which the cultural items were removed is the aboriginal land of the Cherokee Nation; Eastern Band of Cherokee Indians; and the United Keetoowah Band of Cherokee Indians in Oklahoma.

• The Treaty of September 20, 1816, indicates that the land from which the cultural items were removed is the aboriginal land of The Chickasaw Nation.

• Pursuant to 43 CFR 10.11(c)(1)(ii), the disposition of the cultural items may be to the Cherokee Nation; Eastern Band of Cherokee Indians; The Chickasaw Nation; and the United Keetoowah Band of Cherokee Indians in Oklahoma. The Cherokee Nation; Eastern Band of Cherokee Indians; and the United Keetoowah Band of Cherokee Indians in Oklahoma have declined to accept transfer of control of the human remains.

• Pursuant to 43 CFR 10.11(c)(4), the Tennessee Valley Authority has agreed to transfer control of the associated funerary objects associated to The Chickasaw Nation.

Additional Requestors and Disposition

Representatives of any Federally-recognized Indian Tribe not identified in this notice that wish to request transfer of control of these associated funerary objects should submit a written request with information in support of the request to Dr. Thomas O. Maher, Tennessee Valley Authority, 400 West Summit Hill Drive, WT11C, Knoxville, TN 37902-1401, telephone (865) 632-7458, email tomaher@tva.gov, by September 4, 2019. After that date, if no additional requestors have come forward, transfer of control of the associated funerary objects to The Chickasaw Nation may proceed.

The Tennessee Valley Authority is responsible for notifying The Consulted Tribes that this notice has been published.

Dated: July 9, 2019.
Melanie O'Brien,
Manager, National NAGPRA Program.

[FR Doc. 2019-16691 Filed 8-2-19; 8:45 am]

BILLING CODE 4312-52-P